DEPARTMENT OF VETERANS AFFAIRS

[OMB Control No. 2900-NEW]

Agency Information Collection Activity: Creating Options for Veterans Expedited Recovery (COVER) Commission Veterans Focus Groups: Mental Health Services Preferences and Utilization Data Collection

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before April 29, 2019.

ADDRESSES: Submit written comments on the collection of information through Federal Docket Management System (FDMS) at www.Regulations.gov or to Brian McCarthy, Office of Regulatory and Administrative Affairs (10B4), Department of Veterans Affairs, 810 Vermont Avenue NW, Washington, DC 20420 or email to Brian.McCarthy4@va.gov. Please refer to “OMB Control No. 2900-NEW” in any correspondence. During the comment period, comments may be viewed online through FDMS.

FOR FURTHER INFORMATION CONTACT: Brian McCarthy at (202) 615-9241.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Creating Options for Veterans Expedited Recovery (COVER) Commission Veterans Focus Groups: Mental Health Services Preferences and Utilization Data Collection.

OMB Control Number: 2900-NEW.

Type of Review: New collection.

Abstract: The COVER Commission was established under the Comprehensive Addiction and Recovery Act of 2016 (CARA). Pursuant to Section 931(b)(2) of the CARA legislation, the COVER Commission is directed to conduct a patient-centered survey within each of the Veterans Integrated Service Networks. The survey will collect qualitative and demographic information from Veterans seeking and utilizing mental health services through VA and non-VA facilities. The findings will be compiled in a final report to the President, the Committees on Veterans' Affairs of the House of Representatives and the Senate, and the Secretary of Veterans Affairs.

Affected Public: Individuals and households.

Estimated Annual Burden: 400 hours.

Estimated Average Burden per Respondent: 120 minutes.

Frequency of Response: Once.

Estimated Number of Respondents: 200.

By direction of the Secretary.
Danny S. Green,
Interim Clearance Officer, Office of Quality, Performance and Risk (QPR), Department of Veterans Affairs.

[FR Doc. 2019-04018 Filed 3-5-19; 8:45 am]

BILLING CODE 8320-01-P